OFFICE OF GOVERNMENT ETHICS

Review of Criminal Conflict of Interest Statutes; Opportunity for Comment

AGENCY: Office of Government Ethics (OGE).

ACTION: Notice.

SUMMARY: The Office of Government Ethics is conducting a review, pursuant to the Intelligence Reform and Terrorism Prevention Act of 2004, of the criminal conflict of interest statutes relating to executive branch employment. This notice provides the public and agencies an opportunity to comment.

DATES: Any comments from the public and the agencies must be received by June 20, 2005.

ADDRESSES: You may submit comments to OGE by any of the following methods:

• E-mail: usoge@oge.gov. For E-mail messages, the subject line should include the following reference: “Comments Regarding Criminal Conflict of Interest Statutes Review.”

• Fax: (202) 482-9237.

• Mail, Hand Delivery or Courier: Office of Government Ethics, Suite 500, 1201 New York Avenue, NW., Washington, DC 20005-3917, Attention: Stuart D. Rick, Deputy General Counsel.

FOR FURTHER INFORMATION CONTACT: Stuart D. Rick, Deputy General Counsel, Office of Government Ethics, telephone: (202) 482-9300; TDD: (202) 482-9293; FAX: (202) 482-9237.

SUPPLEMENTARY INFORMATION: Section 8403(d) of the Intelligence Reform and Terrorism Prevention Act of 2004, Public Law 108-458 (December 17, 2004), directs the Office of Government Ethics, in consultation with the Department of Justice, to conduct a comprehensive review of the conflict of interest laws relating to executive branch employment. By December 17, 2005, OGE must submit a report to the President and pertinent Congressional committees reflecting its findings. OGE will review 18 U.S.C. 203, 205, 207, 208, and 209, and make recommendations for appropriate revisions that will both enhance Government effectiveness and protect the integrity of Government operations. To assist us in our review, OGE is seeking the views of the public and Federal agencies concerning the need for improvements to the criminal conflict of interest statutes. Interested persons may submit written comments to OGE by June 20, 2005.

Approved: April 27, 2005.
Marilyn L. Glynn,
Acting Director, Office of Government Ethics.

[FR Doc. 05-8691 Filed 4-29-05; 8:45 am]

BILLING CODE 6345-02-P